FEDERAL COMMUNICATIONS COMMISSION

47 CFR Part 73

[DA 04-910; MB Docket No. 04-97, RM-10897, RM-10898; MB Docket No. 04-98, RM-10899; MB Docket No. 04-99, RM-10900; MB Docket No. 04-100, RM-10901; MB Docket No. 04-101, RM-10902, RM-10903; MB Docket No. 04-102, RM-10904, RM-10905, RM-10906; MB Docket No. 04-103, RM-10907; MB Docket No. 04-104, RM-10908, MB Docket No. 04-105, RM-10909, RM-10910, RM-10911; MB Docket No. 04-106, RM-10912; MB Docket No. 04-107, RM-10913, RM-10914; MB Docket No. 04-108, RM-10915, RM-10916, RM-10917, RM-10918; MB Docket No. 04-109, RM-10919; MB Docket No. 04-110, RM-10920, RM-10921, RM-10922]

Radio Broadcasting Services; Canton, IL, Cedarville, IL, Council Grove, KS, Clifton, IL, Farmersburg, IN, Freeport, IL, Fowler, IN, Golden Meadow, LA, Homer, LA, Madison, IN, Pinckneyville, IL, Ringgold, LA, Smith Mills, KY and Terre Haute, IN

AGENCY: Federal Communications Commission.

ACTION: Proposed rule.

SUMMARY: This document sets forth 14 reservation proposals requesting to amend the FM Table of Allotments by reserving certain vacant FM allotments for noncommercial educational use in Canton, Illinois, Cedarville, Illinois, Council Grove, Kansas, Clifton, Illinois, Farmersburg, Indiana, Freeport, Illinois, Fowler, Indiana, Golden Meadow, Louisiana, Homer, Louisiana, Madison, Indiana, Pinckneyville, Illinois, Terre Haute, Indiana, Ringgold, Louisiana and Smith Mills, Kentucky. The Audio Division requests comment on petitions filed by Illinois State University and Starboard Media Foundation, Inc. proposing the reservation of vacant Channel 277A at Canton, Illinois for noncommercial use. The reference coordinates for Channel *277A at Canton are 40-28-27 North Latitude and 90-3-1 West Longitude. The Audio Division requests comment on a petition filed by The Catholic Diocese of Rockford proposing the reservation of vacant Channel 258A at Cedarville, Illinois. The reference coordinates for Channel *258A at Cedarville are 42-21-50 North Latitude and 89-40-59 West Longitude. See SUPPLEMENTARY INFORMATION, infra.

DATES: Comments must be filed on or before May 27, 2004, and reply comments on or before June 11, 2004.

ADDRESSES: Federal Communications Commission, 445 Twelfth Street, SW., Washington, DC 20554. In addition to filing comments with the FCC, interested parties should serve the petitioner, his counsel, or consultant, as follows: Todd D. Gray, Esq., Margaret L. Miller, Esq. and Barry S. Persh, Esq., c/o Illinois State University, Dow, Lohnes & Albertson, PLLC, 1200 New Hampshire Avenue, Suite 800, Washington, DC 20036; Mark Follett, Starboard Media Foundation, Inc., 2300 Riverside Drive, Green Bay, WI 54301; Dennis J. Kelly, Esq., c/o The Catholic Diocese of Rockford, Law Office of Dennis J. Kelly, Post Office Box 41177, Washington, DC 20018; James Miller, Miller Media, 115 Bobbie Drive, Swansea, IL 62226; Patrick J. Vaughn, General Counsel, American Family Association, Post Office Drawer 2440, Tupelo, MS 38803; Mark N. Lipp, Esq., c/o Word Power, Inc., Vinson & Elkins, LLP, The Willard Office Building, 1455 Pennsylvania Avenue, NW., Washington, DC 20004-1008; Harry C. Martin, Esq. and Lee G. Petro, Esq., c/o Living Proof, Inc, Fletcher, Heald & Hildreth PLC, 1300 North 17th Street, 11th Floor, Arlington, VA 22209; William D. Wallace, Esq., c/o The Trustees of Indiana University, Crowell & Moring LLP, 1001 Pennsylvania Avenue, NW., Washington, DC 20004; Russell C. Powell, Esq., c/o Great Plains Christian Radio, Inc, Taylor & Powell, LLP, 908 King Street, Suite 300, Alexandria, VA 22314; Joseph C. Chautin, III, Esq., c/o Providence Educational Foundation, Hardy, Carey & Chautin, L.L.P., 110 Veterans Blvd., Suite 300, Metairie, Louisiana 70005; David A. O'Connor, Esq., c/o Calvary of New Orleans, Holland & Knight LLP, 2099 Pennsylvania Avenue, NW., Suite 100, Washington, DC 20006; David A. O'Connor, Esq., c/o Southern Cultural Outreach Association, Inc., Holland & Knight LLP, 2099 Pennsylvania Avenue, NW., Suite 100, Washington, DC 20006.

FOR FURTHER INFORMATION CONTACT: Rolanda F. Smith, Media Bureau, (202) 418-2180.

SUPPLEMENTARY INFORMATION: This is a synopsis of the Commission's Notice of Proposed Rule Making, MB Docket Nos. 04-97, 04-98, 04-99, 04-100, 04-101, 04-102, 04-103, 04-104, 04-105, 04-106, 04-107, 04-108, 04-109, 04-110 adopted April 2, 2004, and released April 5, 2004. The full text of this Commission decision is available for inspection and copying during regular business hours at the FCC's Reference Information Center, Portals II, 445 12th Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

The Audio Division requests comment on petitions filed by Starboard Media Foundation, Inc. proposing the reservation of vacant Channel 297A at Clifton, Illinois, vacant Channel 295A at Freeport, Illinois, and vacant Channel 291A at Fowler, Indiana for noncommercial use. The reference coordinates for Channel *297A at Clifton are 40-52-0 North Latitude and 87-58-0 West Longitude. The reference coordinates for Channel *295A at Freeport are 42-19-28 North Latitude and 89-35-13 West Longitude. The reference coordinates for Channel *291A at Fowler are 40-38-5 North Latitude and 87-18-46 West Longitude.

The Audio Division requests comment on petitions filed by Starboard Media Foundation and Miller Media proposing the reservation of vacant Channel 282A at Pinckneyville, Illinois for noncommercial use. The reference coordinates for Channel *282A at Pinckneyville are 38-5-30 North Latitude and 89-22-46 West Longitude.

The Audio Division requests comment on petitions filed by American Family Association, Starboard Media Foundation, Inc. and Word Power, Inc. proposing the reservation of vacant Channel 242A at Farmersburg, Indiana for noncommercial use. The reference coordinates for Channel *242A at Farmersburg are 39-15-18 North Latitude and 87-23-0 West Longitude.

The Audio Division requests comment on petitions filed by American Family Association proposing the reservation of vacant Channel 266A at Madison, Indiana and vacant Channel 272A at Homer, Louisiana for noncommercial use. The reference coordinates for Channel *266A at Madison are 38-49-15 North Latitude and 85-18-46 West Longitude. The reference coordinates for Channel *272A at Homer are 32-42-41 North Latitude and 92-56-35 West Longitude.

The Audio Division requests comment on petitions filed by Living Proof, Inc., Word Power, Inc and The Trustees of Indiana University proposing the reservation of vacant Channel 298B at Terre Haute for noncommercial use. The reference coordinates for Channel *298B at Terre Haute are 39-30-14 North Latitude and 87-26-37 West Longitude.

The Audio Division requests comment on a petition filed by Great Plains Christian Radio, Inc. proposing the reservation of vacant Channel 281C3 at Council Grove, Kansas for noncommercial use. The reference coordinates for Channel *281C3 at Council Grove are 38-39-42 North Latitude and 96-29-18 West Longitude.

The Audio Division requests comment on petitions filed by American Family Association and Starboard Media Foundation, Inc. proposing the reservation of vacant Channel 233A at Smith Mills, Kentucky for noncommercial use. The reference coordinates for Channel *233A at Smith Mills are 37-47-26 North Latitude and 87-55-23 West Longitude.

The Audio Division requests comment on petitions filed by American Family Association Starboard Media Foundation, Inc., Providence Educational Foundation and Calvary of New Orleans proposing the reservation of vacant Channel 289C2 at Golden Meadow, Louisiana for noncommercial use. The reference coordinates for Channel *289C2 at Golden Meadow are 29-14-0 North Latitude and 90-15-0 West Longitude.

The Audio Division requests comment on petitions filed by American Family Association, Starboard Media Foundation, Inc. and Southern Cultural Outreach Association, Inc. proposing the reservation of vacant Channel 253C3 at Ringgold, Louisiana for noncommercial use. The reference coordinates for Channel *253C3 at Ringgold are 32-19-49 North Latitude and 93-12-33 West Longitude.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by adding Channel *277A and by removing Channel 277A at Canton; by adding Channel *258A and by removing Channel 258A at Cedarville; by adding Channel *297A and by removing Channel 297A at Clifton; and by adding Channel *295A and by removing Channel 295A at Freeport; and by adding Channel *282A and by removing Channel 282A at Pinckneyville.

3. Section 73.202(b), the Table of FM Allotments under Indiana, is amended by adding Channel *242A and by removing Channel 242A at Farmersburg; by adding Channel *291A and by removing Channel 291A at Fowler; by adding Channel *266A and by removing Channel 266A at Madison; and by adding Channel *298B and by removing Channel 298B at Terre Haute.

4. Section 73.202(b), the Table of FM Allotments under Kansas, is amended by adding Channel *281C3 and by removing Channel 281C3 at Council Grove.

5. Section 73.202(b), the Table of FM Allotments under Kentucky, is amended by adding Channel *233A and by removing Channel 233A at Smith Mills.

6. Section 73.202(b), the Table of FM Allotments under Louisiana, is amended by adding Channel *289C2 and by removing Channel 289C2 at Golden Meadow; by adding Channel *272A and by removing Channel 272A at Homer; and by adding Channel *253C3 and by removing Channel 253C3 at Ringgold.

Federal Communications Commission.
Peter H. Doyle,
Chief, Audio Division, Media Bureau.

[FR Doc. 04-9641 Filed 4-27-04; 8:45 am]

BILLING CODE 6712-01-P